DEPARTMENT OF TRANSPORTATION

Federal Aviation Administration

14 CFR Part 39

[Docket No. FAA-2008-1206; Directorate Identifier 2008-NE-19-AD; Amendment 39-15869; AD 2009-07-10]

RIN 2120-AA64

Airworthiness Directives; General Electric Company CF6-80A Series Turbofan Engines

AGENCY: Federal Aviation Administration (FAA), DOT.

ACTION: Final rule.

SUMMARY: The FAA is adopting a new airworthiness directive (AD) for General Electric Company (GE) CF6-80A series turbofan engines with a high-pressure turbine rotor (HPTR) stage 1 disk, part number (P/N) 9367M45G06, installed. This AD requires removing any HPTR stage 1 disk, P/N 9367M45G06, before exceeding 2,075 cycles-since-new (CSN). This AD results from an error by GE that incorrectly cited a cyclic life of 12,600 CSN for the HPTR stage 1 disk, P/N 9367M45G06. We are issuing this AD to prevent the HPTR stage 1 disk from exceeding its part life, which could cause fatigue cracks to start and grow. These cracks could result in a possible uncontained disk failure and damage to the airplane.

DATES: This AD becomes effective May 6, 2009.

ADDRESSES: The Docket Operations office is located at the Docket Management Facility, U.S. Department of Transportation, 1200 New Jersey Avenue, SE., West Building Ground Floor, Room W12-140, Washington, DC 20590-0001.

FOR FURTHER INFORMATION CONTACT: Robert Green, Aerospace Engineer, Engine Certification Office, FAA, Engine & Propeller Directorate, 12 New England Executive Park, Burlington, MA 01803; e-mail: robert.green@faa.gov; telephone (781) 238-7754; fax (781) 238-7199.

SUPPLEMENTARY INFORMATION: The FAA proposed to amend 14 CFR part 39 with a proposed AD. The proposed AD applies to GE CF6-80A series turbofan engines with a HPTR stage 1 disk, P/N 9367M45G06, installed. We published the proposed AD in the Federal Register on November 14, 2008 (73 FR 67433). That action proposed to require removing any HPTR stage 1 disk, P/N 9367M45G06, before exceeding 2,075 CSN.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We have considered the comment received. The commenter supports the proposal.

Conclusion

We have carefully reviewed the available data, including the comment received, and determined that air safety and the public interest require adopting the AD as proposed.

Costs of Compliance

We estimate that this AD will affect 10 engines installed on airplanes of U.S. registry. We also estimate that it will take about 110 work-hours per engine to perform the actions, and that the average labor rate is $80 per work-hour. Required parts will cost about $437,000 per engine. Based on these figures, we estimate the total cost of the AD to U.S. operators to be $4,458,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2009-07-10 General Electric Company: Amendment 39-15869. Docket No. FAA-2008-1206; Directorate Identifier 2008-NE-19-AD.

Effective Date

(a) This airworthiness directive (AD) becomes effective May 6, 2009.

Affected ADs

(b) None.

Applicability

(c) This AD applies to General Electric Co. (GE) CF6-80A, CF6-80A1, CF6-80A2, and CF6-80A3 turbofan engines with a high-pressure turbine rotor (HPTR) stage 1 disk, part number (P/N) 9367M45G06, installed. These engines are installed on, but not limited to, Airbus A310 series and Boeing 767 series airplanes.

Unsafe Condition

(d) This AD results from an error by GE that incorrectly cited a cyclic life of 12,600 CSN in the Airworthiness Limitations Section (ALS) of the Instructions for Continued Airworthiness (ICA) for the HPTR stage 1 disk, P/N 9367M45G06. We are issuing this AD to prevent the HPTR stage 1 disk from exceeding its part life, which could cause fatigue cracks to start and grow. These cracks could result in a possible uncontained disk failure and damage to the airplane.

Compliance

(e) You are responsible for having the actions required by this AD performed within the compliance times specified unless the actions have already been done.

New Reduced Life Limit for HPTR Stage 1 Disks, P/N 9367M45G06

(f) After the effective date of this AD, remove HPTR stage 1 disks, P/N 9367M45G06, from service before exceeding the new, reduced life limit of 2,075 cycles-since-new.

Alternative Methods of Compliance

(g) The Manager, Engine Certification Office, has the authority to approve alternative methods of compliance for this AD if requested using the procedures found in 14 CFR 39.19.

Special Flight Permits

(h) Under 14 CFR part 39.23, we are prohibiting any special flight permits.

Related Information

(i) Contact Robert Green, Aerospace Engineer, Engine Certification Office, FAA, Engine & Propeller Directorate, 12 New England Executive Park, Burlington, MA 01803; e-mail: robert.green@faa.gov; telephone (781) 238-7754; fax (781) 238-7199, for more information about this AD.

Material Incorporated by Reference

(j) None.

Issued in Burlington, Massachusetts, on March 25, 2009.
Peter A. White,
Assistant Manager, Engine and Propeller Directorate, Aircraft Certification Service.

[FR Doc. E9-7280 Filed 3-31-09; 8:45 am]

BILLING CODE 4910-13-P